DEPARTMENT OF THE INTERIOR

National Park Service

[N6708; NPS-WASO-NAGPRA-NPS0041436; PPWOCRADN0-PCU00RP14.R50000]

Notice of Inventory Completion: California State University, Long Beach, Long Beach, CA

AGENCY: National Park Service, Interior.

ACTION: Notice.

SUMMARY: In accordance with the Native American Graves Protection and Repatriation Act (NAGPRA), California State University, Long Beach has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Miztlayolxochitl Aguilera, California State University Long Beach, 1250 Bellflower Blvd., Long Beach, CA 90840, email Miztla.Aguilera@csulb.edu.

SUPPLEMENTARY INFORMATION: This notice is published as part of the National Park Service's administrative responsibilities under NAGPRA. The determinations in this notice are the sole responsibility of California State University, Long Beach and additional information on the determinations in this notice, including the results of consultation, can be found in its inventory or related records. The National Park Service is not responsible for the determinations in this notice.

Abstract of Information Available

Human remains representing at least three individuals have been identified. The one associated funerary object is one bobcat skull. At an unknown date, the remains and associated funerary object were disinterred in Bakersfield, in Kern County, California by an individual who was “digging in the hills” and kept them in his possession. Upon his death, at an unknown date, his family recovered them and released them the Southern California Indian Center (SCIC). On October 29, 2019, SCIC transferred the possession of the remains to California State University, Long Beach (CSULB) for curation and assistance with the NAGPRA process. Since 2019, attempts to uncover more information had been unsuccessful due, in part to the closing of the SCIC. The ancestors were held at CSULB with a note: “Southern California Indian Center—now defunct.” In 2023 the remains were confirmed to be Native American. In June 2025, due to defunct status of the controlling organization, CSULB, with the support of the CSU Chancellor's Office, made the decision to assume control of the remains in good faith to ensure repatriation of the ancestors. There is no record of the human remains or AFO being treated with potentially hazardous substances.

Cultural Affiliation

Based on the information available and the results of consultation, cultural affiliation is reasonably identified by the geographical location and acquisition history of the human remains and associated funerary objects described in this notice.

Determinations

California State University, Long Beach has determined that:

• The human remains described in this notice represent the physical remains of three individuals of Native American ancestry.

• The one object described in this notice are reasonably believed to have been placed intentionally with or near individual human remains at the time of death or later as part of the death rite or ceremony.

• There is a connection between the human remains and associated funerary objects described in this notice and the Tejon Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, California State University, Long Beach must determine the most appropriate requestor prior to repatriation. Requests for joint repatriation of the human remains and associated funerary objects are considered a single request and not competing requests. California State University, Long Beach is responsible for sending a copy of this notice to the Indian Tribes and Native Hawaiian organizations identified in this notice and any other consulting parties.

Authority: Native American Graves Protection and Repatriation Act, 25 U.S.C. 3003, and the implementing regulations, 43 CFR 10.10.

Dated: November 24, 2025.
Melanie O'Brien,
Manager, National NAGPRA Program.

[FR Doc. 2025-23050 Filed 12-16-25; 8:45 am]

BILLING CODE 4312-52-P